DEPARTMENT OF VETERANS AFFAIRS

Privacy Act of 1974; System of Records

AGENCY: Department of Veterans Affairs.

ACTION: Notice of New Privacy Act System of Records.

SUMMARY: The Privacy Act of 1974 (5 U.S.C. 552(a)(e)) requires all agencies to publish in the Federal Register a notice of the existence and character of their systems of records. Notice is hereby given that the Department of Veterans Affairs (VA) is establishing a new system of records entitled “Principles of Excellence Centralized Complaint System-VA” 170VA22.

DATES: Comments on this new system of records must be received no later than March 25, 2013. If no public comment is received during the period allowed for comment, or unless otherwise published in the Federal Register by VA, the new system will become effective March 25, 2013.

ADDRESSES: Written comments concerning the proposed new system of records may be submitted by: mail or hand-delivery to Director, Regulations Management (02REG), Department of Veterans Affairs, 810 Vermont Avenue NW., Room 1068, Washington, DC 20420; fax to (202) 273-9026; or email to http://www.Regulations.gov. All comments received will be available for public inspection in the Office of Regulation Policy and Management, Room 1063B, between the hours of 8 a.m. and 4:30 p.m., Monday through Friday (except holidays). Please call (202) 461-4902 for an appointment. (This is not a toll-free number.) In addition, during the comment period, comments may be viewed online through the Federal Docket Management System (FDMS) at www.Regulations.gov.

FOR FURTHER INFORMATION CONTACT: Thomas Erickson, Performance Management Team, Department of Veterans Affairs, 810 Vermont Avenue NW., Washington, DC 20420, (202) 461-9829.

SUPPLEMENTARY INFORMATION: Executive Order 13607, “Establishing Principles of Excellence for Institutions Serving Service Members, Veterans, Spouses, and Other Family Members,” requires the creation of a centralized complaint system for students receiving Federal military and veteran educational benefits to submit complaints against institutions they feel have acted deceptively or fraudulently. VA proposes to establish this new system of records, entitled “Principles of Excellence Centralized Complaint System-VA” 170VA22. This system will provide a standardized method for students and others to submit a complaint or allegation that an entity or individual has not or may not have adhered to the Principles of Excellence established in the Executive Order. The notice of intent to publish and an advance copy of the system notice have been sent to the appropriate congressional committees and to the Director of the Office of Management and Budget (OMB) as required by 5 U.S.C. 552a(r) (Privacy Act) and guidelines issued by OMB (65 FR 77677), December 12, 2000.

Approved: February 4, 2013.
John R. Gingrich,
Chief of Staff, Department of Veterans Affairs.

170VA22

SYSTEM NAME:

“Principles of Excellence Centralized Complaint System-VA” 170VA22.

SYSTEM LOCATION:

Complaints or allegations concerning entities or individuals that have not or may not have adhered to the Principles of Excellence established in the Executive Order 13607 will be submitted by users of VA education benefits or veterans, service members, and their families. Registered complaints will be transmitted in a secure electronic format to VA Central Office for review. Policy issues concerning this system should be submitted to the Department of Veterans Affairs, 810 Vermont Avenue NW., Washington, DC 20420.

CATEGORIES OF INDIVIDUALS COVERED BY THE SYSTEM:

Individuals covered by this system are individuals who submit complaints to VA (on their own); individuals on whose behalf complaints are submitted by others (such as attorneys, members of Congress, third party advocates, and/or other governmental organizations); and employees, the Federal Trade Commission, other Federal agencies, state agencies, or VA. Information collected is subject to the Privacy Act only to the extent that it concerns individuals; information pertaining to entities and organizations is not subject to the Privacy Act.

CATEGORIES OF RECORDS IN THE SYSTEM:

Records in the system may contain: (1) Correspondence or other information received; (2) information from the entity or individual referring the complaint; (3) records created of verbal communications by or with complainants or other individuals; (4) information regarding third party advocates or others who submit complaints on another's behalf; (5) information identifying the entity that is subject to the complaint or its employees; (6) communication with or by the entity that is subject to the complaint or its employees; (7) unique identifiers, codes, and descriptors categorizing each complaint file; (8) information about how complaints were responded to or referred, including any resolution; (9) records used to respond to or refer complaints, including information in VA's other systems of records; and (10) identifiable information regarding both the individual who is making the complaint, and the individual on whose behalf such complaint is made, and employees of the entity about which the complaint was made, including name, Social Security number, account numbers, address, phone number, email address, and date of birth.

AUTHORITY FOR MAINTENANCE OF THE SYSTEM:

Executive Order 13607, “Establishing Principles of Excellence for Educational Institutions Serving Service Members, Veterans, Spouses, and Other Family Members”.

PURPOSE(S):

The information in the system is being collected to enable VA to receive, respond to, and refer complaints regarding VA educational assistance benefits. The system serves as a record of the complaint, and is used for collecting complaint data; responding to or referring the complaint; aggregating data that will be used to inform other functions of VA and, as appropriate, other agencies and/or the public; and preparing reports as required by law. This system consists of complaints received by VA or other entities and information concerning responses to or referrals of these complaints, as appropriate.

ROUTINE USES OF RECORDS MAINTAINED IN THE SYSTEM, INCLUDING CATEGORIES OF USERS AND THE PURPOSES OF SUCH USES:

1. For Law Enforcement Purposes—To disclose pertinent information to the appropriate Federal, state, or local agency responsible for investigating, prosecuting, enforcing, or implementing a statute, rule, regulation, or order, where VA becomes aware of an indication of a violation or potential violation of civil or criminal law or regulation. This includes the Federal Trade Commission's Sentinel Network.

2. For Congressional Inquiry—To provide information to a congressional office from the record of an individual in response to an inquiry from that congressional office made at the request of that individual.

3. Judicial/Administrative Proceedings—To disclose information to another Federal agency, to a court, or a party in litigation before a court or in an administrative proceeding being conducted by a Federal agency, when the Government is a party to the judicial or administrative proceeding. In those cases where the Government is not a party to the proceeding, records may be disclosed if a subpoena has been signed by a judge.

4. For National Archives and Records Administration and General Services Administration—To disclose to the National Archives and Records Administration and the General Services Administration in records management inspections conducted under authority of Title 44 of the United States Code (U.S.C.).

5. Within VA for Statistical/Analytical Studies—By VA in the production of summary descriptive statistics and analytical studies in support of the function for which records are collected and maintained, or for related workforce studies. While published studies do not contain individual identifiers, in some instances, the selection of elements of data included in the study may be structured in such a way as to make the data individually identifiable by inference.

6. For Litigation—To disclose information to the Department of Justice, or in a proceeding before a court, adjudicative body, or other administrative body before which VA is authorized to appear, when: (1) VA, or any component thereof; or (2) any employee of VA in his or her official capacity; or (3) any employee of VA in his or her individual capacity where the Department of Justice or VA has agreed to represent the employee; or (4) the United States, when VA determines that litigation is likely to affect VA or any of its components, is a party to litigation or has an interest in such litigation, and the use of such records by the Department of Justice or VA is deemed by VA to be relevant and necessary to the litigation provided, however, that the disclosure is compatible with the purpose for which records were collected.

7. For the Merit Systems Protection Board—To disclose information to officials of the Merit Systems Protection Board or the Office of the Special Counsel, when requested in connection with appeals, special studies of the civil service and other merit systems, review of VA rules and regulations, investigations of alleged or possible prohibited personnel practices, and such other functions, e.g., as promulgated in 5 U.S.C. 1205 and 1206, or as may be authorized by law.

8. For the Equal Employment Opportunity Commission—To disclose information to the Equal Employment Opportunity Commission when requested in connection with an investigation into alleged or possible discrimination practices in the Federal sector, compliance by Federal agencies with the Uniform Guidelines on Employee Selection Procedures or other functions vested in the Commission, and to otherwise ensure compliance with the provisions of 5 U.S.C. 7201.

9. For the Federal Labor Relations Authority—To disclose information to the Federal Labor Relations Authority or its General Counsel when requested in connection with investigations of allegations of unfair labor practices or matters before the Federal Service Impasses Panel.

10. For Consumer Reporting Agencies—VA may disclose the name and address of a veteran or beneficiary, and other information as is reasonably necessary to identify such individual or concerning that individual's indebtedness to the United States by virtue of the person's participation in a benefits program administered by the Department, to a consumer reporting agency for the purpose of locating the individual, obtaining a consumer report to determine the ability of the individual to repay an indebtedness to the United States, or assisting in the collection of such indebtedness, provided that the provisions of 38 U.S.C. 5701(g)(2) and (4) have been met. The purpose of this information disclosure to a consumer-reporting agency is to assist VA in locating an individual, obtaining a consumer report to determine his or her ability to repay indebtedness, and to collect indebtedness.

11. For OMB—VA may disclose information from this system of records to the Office of Management and Budget (OMB) for the performance of its statutory responsibilities for evaluating Federal programs. VA must be able to provide information to OMB to assist it in fulfilling its duties as required by statute and regulation.

12. For Treasury, for Payment or Reimbursement—VA may disclose information to the Department of the Treasury to facilitate payments to physicians, clinics, and pharmacies for reimbursement of services rendered, and to veterans for reimbursements of authorized expenses, or to collect, by set off or otherwise, debts owed to the United States.

13. For Treasury, IRS—VA may disclose the name of a veteran or beneficiary, other information as is reasonably necessary to identify such individual to the Department of the Treasury, Internal Revenue Service (IRS), for the collection of Title 38 benefit overpayments, overdue indebtedness, and/or costs of services provided to an individual not entitled to such services, by the withholding of all or a portion of the person's Federal income tax refund. The purpose of this disclosure is to collect a debt owed to VA by an individual by offset of his or her Federal income tax refund.

14. For Contractors—VA may disclose information from this system of records to individuals, organizations, private or public agencies, or other entities or individuals with whom VA has a contract or agreement to perform such services as VA may deem practicable for the purposes of laws administered by VA, in order for the contractor, subcontractor, public or private agency, or other entity or individual with whom VA has a contract or agreement to perform services under the contract or agreement.

15. For Data Breach Response and Remedial Efforts—VA may, on its own initiative, disclose information from this system to appropriate agencies, entities, and persons when (1) VA suspects or has confirmed that the integrity or confidentiality of information in the system of records has been compromised; (2) the Department has determined that as a result of the suspected or confirmed compromise there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm.

16. For GAO—VA may disclose information from this system of records to the U.S. Government Accountability Office (GAO) for the performance of its statutory responsibilities for evaluating Federal programs. VA must be able to provide information to GAO to assist it in fulfilling its duties as required by statute and regulation.

POLICIES AND PRACTICES FOR STORING, RETRIEVING, ACCESSING, RETAINING, AND DISPENSING OF RECORDS IN THE SYSTEM:

STORAGE:

Information will be collected by VA Form 22-0959, Principles of Excellence Complaint Intake Questionnaire, and telephone and stored in an electronic format.

RETRIEVABILITY:

Records are retrievable by a variety of fields including without limitation the individual's name, complaint case number, address, phone number, date of birth, or by some combination thereof.

SAFEGUARDS:

Access to electronic records is restricted to authorized personnel who have been issued non-transferrable access codes and passwords. Other records are maintained in locked file cabinets or rooms with access limited to those personnel whose official duties require access.

RETENTION AND DISPOSAL:

Disposition of records is according to the National Archives and Records Administration guidelines.

SYSTEM MANAGER(S) AND ADDRESS:

Director, Education Service, Department of Veterans Affairs, 810 Vermont Avenue NW., Washington, DC 20420.

NOTIFICATION PROCEDURE:

Individuals may submit a request on whether a system contains records about them to the system manager indicated. Individuals must furnish the following for their records to be located and identified:

a. Full name.

b. Address.

c. Institution identified in complaint.

RECORD ACCESS PROCEDURES:

Individuals wishing to request access to records about them should contact the system manager indicated. Individuals must furnish the following for their records to be located and identified:

a. Full name.

b. Address.

c. Institution identified in complaint.

Individuals requesting access must also follow the Office of Personnel Management's Privacy Act Regulations regarding verification of identity and amendment of records (5 CFR part 297).

CONTESTING RECORD PROCEDURES:

Individuals wishing to request access amendment of records about them should contact the system manager indicated. Individuals must furnish the following for their records to be located and identified:

a. Full name.

b. Address.

c. Institution identified in complaint.

Individuals requesting access amendment of records must also follow the Office of Personnel Management's Privacy Act Regulations regarding verification of identity and amendment of records (5 CFR part 297).

RECORD SOURCE CATEGORIES:

Information in this system is obtained from individuals and entities filing complaints, about entities or individuals that have not or may not have adhered to the Principles of Excellence established in the Executive Order 13607. Furnishing the information is voluntary.

EXEMPTIONS CLAIMED FOR THE SYSTEM:

None.

[FR Doc. 2013-04114 Filed 2-21-13; 8:45 am]

BILLING CODE 8320-01-P